DEPARTMENT OF HEALTH AND HUMAN SERVICES

Centers for Disease Control and Prevention

Notice Regarding Requirement for Submission of List of Ingredients Added to Tobacco in Cigarettes; Amendment

AGENCY: Centers for Disease Control and Prevention (CDC), HHS.

ACTION: Notice.

SUMMARY: The Centers for Disease Control and Prevention (CDC), National Center for Chronic Disease Prevention and Health Promotion (NCCDPHP), Office on Smoking and Health (OSH), is amending the ingredient list due date referenced in the “Notice Regarding Requirement for Submission of List of Ingredients Added to Tobacco in Cigarettes; Amendment” published in the Federal Register on Tuesday, November 8, 1994.

FOR FURTHER INFORMATION CONTACT: Lawrence W. Green, Dr.P.H., Acting Director, Office on Smoking and Health, telephone (770) 488-5701.

SUPPLEMENTARY INFORMATION: On November 8, 1994, CDC published a notice changing the reporting date from December 31 to March 31 for submission of the list of ingredients added to tobacco in cigarettes [59 FR 55669]. The following amendment is made to that notice:

On page 55670, first column, second paragraph, after “Dates:” change to read “upon initial importation and on March 31st every year thereafter.”

Dated: March 26, 2001.
Joseph R. Carter,
Associate Director for Management and Operations, Centers for Disease Control and Prevention (CDC).

[FR Doc. 01-7989 Filed 3-30-01; 8:45 am]

BILLING CODE 4163-18-P